DEPARTMENT OF THE TREASURY

Departmental Offices; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Departmental Offices within the Department of the Treasury are soliciting comments concerning the Monthly Lending Report.

DATES: Written comments should be received on or before August 10, 2009 to be assured of consideration.

ADDRESSES: Direct all written comments to Department of the Treasury, David Eagles, 1500 Pennsylvania Avenue, Washington, DC 20220.

FOR FURTHER INFORMATION CONTACT: Requests for additional information or copies of the form(s) and instructions should be directed as above.

SUPPLEMENTARY INFORMATION: Title: Monthly Lending Report.

OMB Number: 1505-0214.

Abstract: Authorized under the Emergency Economic Stabilization Act (EESA) of 2008 (Pub. L. 110-343), the Department of the Treasury has implemented several aspects of the Troubled Asset Relief Program. Among these components is a voluntary Capital Purchase Program (CPP) under which the Department may purchase qualifying capital in U.S. banking organizations. The Treasury has so far invested capital through this program in almost 600 financial institutions. As part of the Capital Purchase Program, Treasury would like to gauge whether the capital injections made through the CPP are having the desired effect of ensuring liquidity within the banking system and thereby increasing lending activity. To gauge this, Treasury would like to monitor the lending activity of all CPP participants. The Treasury will be conducting evaluations using quarterly Call Report data supplied by these financial institutions to their primary regulator. However, in order to have a more frequent and timely snapshot of the current lending environment, Treasury is requesting the ability to conduct a monthly survey of all participants in the CPP in order to supplement the quarterly analysis.

Current Actions: Continuation of survey.

Type of Review: Extension.

Affected Public: Financial Institutions.

Estimated Number of Respondents: 700.

Estimated Total Annual Burden Hours: 5,600.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Robert Dahl,
Treasury PRA Clearance Officer.

[FR Doc. E9-13667 Filed 6-10-09; 8:45 am]

BILLING CODE 4810-25-P